DEPARTMENT OF HEALTH AND HUMAN SERVICES

National Institutes of Health

Government-Owned Inventions; Availability for Licensing

AGENCY: National Institutes of Health, Public Health Service, HHS.

ACTION: Notice,

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by contacting Dale D. Berkley, Ph.D., J.D., at the Office of Technology Transfer, National Institutes of Health, 6011 Executive Boulevard, Suite 325, Rockville, Maryland 20852-3804; telephone: 301/496-7735 ext. 223; fax: 301/402-0220; e-mail: berkleyd@od.nih.gov. A signed Confidential Disclosure Agreement will be required to receive copies of the patent applications.

Generalized MRI Artifact Reduction Using Array Processing Method

Peter Kellman, Elliott McVeigh (NHLBI)

DHHS Reference No. E-198-00/0 filed 03 Apr 2001

The invention is a phased array combining method for reducing artifacts in Magnetic Resonance (MR) imaging. The method uses a constrained optimization that optimizes signal-to-noise subject to the constraint of nulling ghost artifacts at known locations. The method is effective in reducing or canceling artifacts that arise in a wide variety of MR applications, including ghost artifacts from echo planar imaging and Gradient Recalled Echo with Echo Train (FGRE-ET) imaging used in cardiac or other rapid imaging applications. The strategy of using phase encode acquisition orders with distortion that results in ghosts, followed by applying this phased array ghost cancellation method has a number of benefits, including reduced blur and geometric distortion, reduced acquisition time (eliminating echo shifting), and reduced sensitivity to flow.

E-Portals in Commerce (E-PIC)

Diana V. Mukitarian (OD)

DHHS Reference No. E-147-00/0

The invention is a consolidated database for storing and maintaining vendor contact information and contract services that each can offer. The purpose of the invention is to consolidate vendor sources into one database, enabling vendors to easily add and update their contact information, to provide a variety of search criteria for providing sources for an organization's acquisitions, and to make such a system user friendly and available to the organization administrators. The system serves as a gateway for the business community to gain access to the organization's contracts and allows the organization to follow the acquisition cycle at every step. The database is designed to serve as a center for all communication for any service vendor seeking to do business with the organization. At any time an administrator can visit the repository to look for approved contractors and review their performance on past projects, with the intention of seeking proposals for work via an automated process. For more information, please direct your web browser to http://sbo.od.nih.gov/epicfactsheet.pdf.

Dated: August 20, 2001.
Jack Spiegel,
Director, Division of Technology Development and Transfer, Office of Technology Transfer, National Institutes of Health.

[FR Doc. 01-21780 Filed 8-28-01; 8:45 am]

BILLING CODE 4140-01-P